DEPARTMENT OF JUSTICE

Notice of Opportunity To Comment on Proposed Settlement Under the Oil Pollution Act

Notice is hereby given that the United States of America, on behalf of the Department of the Interior (“DOI”) acting through the U.S. Fish and Wildlife Service, the State of Oregon represented by Oregon Department of Fish and Wildlife (“ODFW”), the Confederated Tribes of Grand Ronde, and the Confederated Tribes of Siletz Indians (“Tribes”) (DOI, ODFW and Tribes collectively, the “Trustees”), are providing an opportunity for public comment on a proposed Settlement Agreement (“Settlement Agreement”) among the Trustees and settling party Central Petro, Inc. (“Central Petro”).

The Settlement Agreement resolves civil claims under the natural resource damages provision of the Oil Pollution Act of 1990 (“OPA”), 33 U.S.C. 2702 for injury to, impairment of, destruction of, loss of, diminution of value of and/or loss of use of natural resources, including the reasonable costs of assessing the injuries, resulting from the December 15, 2017 discharge of approximately 11,600 gallons of unleaded gasoline from a fuel tanker owned by Central Petro near Idanha Oregon.

The Settlement Agreement resolves these claims by requiring a payment of $567,155.97 for past assessment costs and implementation of natural resource restoration projects to be selected by the Trustees.

This publication of this notice holds opens the period for public comment on the Settlement Agreement. Comments should be addressed to the Assistant Attorney General, Environment and Natural Resources Division, and should refer to United States et al v. Central Petro, D.J. Ref. No. 90-5-1-1-12594. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $8.75 (25 cents per page reproduction cost) payable to the United States Treasury.

Kathryn C. Macdonald,
Assistant Section Chief, Environmental Enforcement Section, Environment and Natural Resources Division.

[FR Doc. 2023-01589 Filed 1-25-23; 8:45 am]

BILLING CODE 4410-15-P